DEPARTMENT OF THE INTERIOR

Bureau of Land Management

[LLCOS00000-L12200000.DF0000-19X]

Notice of Public Meetings, Southwest (Colorado) Resource Advisory Council

AGENCY: Bureau of Land Management, Interior.

ACTION: Notice of public meetings.

SUMMARY: In accordance with the Federal Land Policy and Management Act and the Federal Advisory Committee Act of 1972, the U.S. Department of the Interior, Bureau of Land Management (BLM) Southwest (Colorado) Resource Advisory Council (RAC) will meet as indicated below.

DATES: The Southwest RAC has scheduled its meetings for June 13, 2019 and September 25, 2019. Each meeting will begin at 8 a.m. and adjourn at approximately 3:00 p.m.

ADDRESSES: The June 13, 2019 meeting will be held in Grand Junction at the BLM Grand Junction Field Office, 2815 H Road; the September 25, 2019 meeting will held in Dolores at the Dolores Public Lands Office, 29211 Hwy 184.

FOR FURTHER INFORMATION CONTACT: Gloria Tibbetts, Associate District Manager, Southwest District Office, 2465 South Townsend Avenue, Montrose, Colorado 81401. Phone: (970) 240-5430. Email: gtibbetts@blm.gov. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The 15-member Southwest Colorado RAC advises the Secretary of the Interior, through the Bureau of Land Management, on a variety of public land issues in the Southwest District, including the Grand Junction, Uncompahgre and Tres Rios field offices. Topics of discussion for these meetings include recreation, recreation fee proposals, fire management, land use planning, invasive species management, energy and minerals management, travel management, wilderness, wild horse herd management, land exchange proposals, cultural resource management, and other issues as appropriate. Final agendas will be posted online at https://www.blm.gov/get-involved/resource-advisory-council/near-you/colorado/southwest-rac.

The June 13, 2019, agenda includes a Special Recreation Permit program overview, a proposal to improve camping opportunities in the Rabbit Valley area of the McInnis Canyons National Conservation Area, a right-of-way proposal in the Domiguez-Escalante National Conservation Area and a discussion about establishing a RAC subcommittee for Jumbo Mountain in Delta County.

The meetings are open to the public, and each meeting will offer a 30 minute public comment period. Depending on the number of persons wishing to comment and the time available, time allotted for individual oral comments may be limited. The public may also send written comments to Gloria Tibbetts (see FOR FURTHER INFORMATION CONTACT). All comments received will be provided to the Southwest RAC.

Before including your address, phone number, email address, or other personal identifying information in your comment, you should be aware that your entire comment—including your personal identifying information—may be made publicly available at any time. While you can ask us in your comment to withhold your personal identifying information from public review, we cannot guarantee that we will be able to do so.

Detailed meeting minutes for the Southwest RAC meetings will be maintained in the Southwest District Office and will be available for public inspection and reproduction during regular business hours within thirty (30) days following the meeting. Previous minutes, membership information and upcoming agendas are available at: https://www.blm.gov/get-involved/resource-advisory-council/near-you/colorado/southwest-rac.

Authority: 43 CFR 1784.4-2.

Gregory P. Shoop,
BLM Colorado Associate State Director.

[FR Doc. 2019-09697 Filed 5-9-19; 8:45 am]

BILLING CODE 4310-JB-P